DEPARTMENT OF THE INTERIOR

National Park Service

[NPS-WASO-NAGPRA-NPS0038736; PPWOCRADN0-PCU00RP14.R50000]

Notice of Inventory Completion: Western Washington University, Department of Anthropology, Bellingham, WA

AGENCY: National Park Service, Interior.

ACTION: Notice.

SUMMARY: In accordance with the Native American Graves Protection and Repatriation Act (NAGPRA), the Western Washington University (WWU) has completed an inventory of human remains and associated funerary objects and has determined that there is a cultural affiliation between the human remains and associated funerary objects and Indian Tribes or Native Hawaiian organizations in this notice.

DATES: Repatriation of the human remains and associated funerary objects in this notice may occur on or after October 21, 2024.

ADDRESSES: Dr. Judith Pine, Western Washington University, Department of Anthropology, Arntzen Hall 340, 516 High Street, Bellingham, WA 98225, telephone (360) 650-4783, email pinej@wwu.edu.

SUPPLEMENTARY INFORMATION: This notice is published as part of the National Park Service's administrative responsibilities under NAGPRA. The determinations in this notice are the sole responsibility of the WWU, and additional information on the determinations in this notice, including the results of consultation, can be found in its inventory or related records. The National Park Service is not responsible for the determinations in this notice.

Abstract of Information Available

Human remains representing, at least, seven individuals have been identified. The 39 associated funerary objects are bone, stone and antler tools, carved bone, midden samples, and shells with red ochre.

Three different projects (conducted in 1975, 1976, and 2010) related to excavation and monitoring of the Birch Bay Sewer line resulted in the human remains and associated funerary objects listed in this notice.

In 1975, Western Washington State College signed a contract with Arcomm Construction Company, Inc. of Seattle to conduct “salvage” archaeology during the development of the Birch Bay sewage treatment facility. The project was led by Jeannette Gaston and Garland Grabert (WWU). Most of the work consisted of monitoring and salvage archaeology during construction activities throughout the summer of 1975.

The work conducted in 1976 was associated with, but separate from, the 1975 Birch Bay Sewage Treatment Plant Survey described above. Washington State Parks and Recreation Commission (WSPRC) contracted with the Office of Public Archaeology at the University of Washington, who then subcontracted WWU, for reconnaissance and testing of the areas of Birch Bay State Park to be affected by developmental plans. Field operations, led by Garland Grabert and R.L. Spear, began on August 30 and continued until September 17, 1976.

In 2010, Drayton Archaeological Research (DAR) carried out monitoring and data recovery excavations at 45WH9. This effort was part of the mitigation for the installation of a sewer force main replacement in the road right-of-way by the Birch Bay Water and Sewer District. No known individuals were identified. No hazardous chemicals are known to have been used to treat the human remains while in the custody of WWU.

Cultural Affiliation

Based on the information available and the results of consultation, cultural affiliation is clearly identified by the information available about the human remains and associated funerary objects described in this notice.

Determinations

The WWU has determined that:

• The human remains described in this notice represent the physical remains of seven individuals of Native American ancestry.

• The 39 objects described in this notice are reasonably believed to have been placed intentionally with or near individual human remains at the time of death or later as part of the death rite or ceremony.

• There is a connection between the human remains and associated funerary objects described in this notice and the Lummi Tribe of the Lummi Reservation and the Nooksack Indian Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 21, 2024. If competing requests for repatriation are received, the WWU must determine the most appropriate requestor prior to repatriation. Requests for joint repatriation of the human remains and associated funerary objects are considered a single request and not competing requests. The WWU is responsible for sending a copy of this notice to the Indian Tribes and Native Hawaiian organizations identified in this notice.

Authority: Native American Graves Protection and Repatriation Act, 25 U.S.C. 3003, and the implementing regulations, 43 CFR 10.10.

Dated: September 12, 2024.
Melanie O'Brien,
Manager, National NAGPRA Program.

[FR Doc. 2024-21539 Filed 9-19-24; 8:45 am]

BILLING CODE 4312-52-P